FEDERAL COMMUNICATIONS COMMISSION

47 CFR Part 73

[MB Docket No. 04-319, RM-10984, DA 14-1198]

Radio Broadcasting Services; Clinchco, Virginia; Coal Run, Kentucky

AGENCY: Federal Communications Commission.

ACTION: Final rule; application for review.

SUMMARY: The Audio Division grants a settlement request filed by Dickenson County Broadcasting Corporation (“Dickenson County”), licensee of Station WDIC-FM, Clinchco, Virginia, and East Kentucky Broadcasting Corporation (“East Kentucky”), licensee of Station WPKE-FM, Coal Run, Kentucky. The staff dismisses Dickenson County's Application for Review with prejudice and returns Stations WDIC-FM and WPKE-FM to the channels that they occupied before this proceeding commenced. See also Supplementary Information.

DATES: September 5, 2014.

FOR FURTHER INFORMATION CONTACT: Andrew J. Rhodes, Media Bureau, (202) 418-2700.

SUPPLEMENTARY INFORMATION: This is a synopsis of the Commission's Memorandum Opinion and Order, MB Docket No. 04-319; DA 14-1198, adopted August 14, 2014, and released August 15, 2014. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or www.BCPIWEB.com.

The Reconsideration Decision in this proceeding reinstated and granted a Petition for Rule Making filed by East Kentucky, upgrading its Station WPKE-FM, Coal Run, from Channel 276A to Channel 221C3 at a new transmitter site. To accommodate the Station WPKE-FM upgrade, the Reconsideration Decision involuntarily modified the license for Dickenson County's Station WDIC-FM, Clinchco, to specify operation on Channel 276A in lieu of Channel 221A. See 76 FR 44279, July 25, 2011. Dickenson had filed an Application for Review of the Reconsideration Decision.

The staff finds that the settlement would serve the public interest because it would resolve a proceeding that has been pending for ten years. The staff also finds that the settlement complies with § 1.420(j) of the Commission's rules.

In order to implement the settlement, the staff modifies the Media Bureau's Consolidated Data Base System to reflect as the reserved assignments for the listed stations: (1) Channel 276A in lieu of Channel 221C3 at Coal Run, Kentucky, for Station WPKE-FM, and (2) Channel 221A in lieu of Channel 276A at Clinchco, Virginia, for Station WDIC-FM. The staff also rescinded the Reconsideration Decision. Finally, as part of this settlement, the staff concurrently approves the dismissal of Dickenson County's Petition to Deny directed against the WPKE-FM license renewal application and East Kentucky's objection to the WDIC-FM license renewal application.

The Commission will not send a copy of the Memorandum Opinion and Order pursuant to the Congressional Review Act, see 5 U.S. C. 801(a)(1)(A), because the Commission is not adopting any rules in the proceeding.

Federal Communications Commission.
Peter H. Doyle,
Chief, Audio Division, Media Bureau.

[FR Doc. 2014-21127 Filed 9-4-14; 8:45 am]

BILLING CODE 6712-01-P